DEPARTMENT OF COMMERCE

National Oceanic and Atmospheric Administration

[I.D. 061406C]

Endangered Species; File No. 1557

AGENCY: National Marine Fisheries Service (NMFS), National Oceanic and Atmospheric Administration (NOAA), Commerce.

ACTION: Notice; issuance of permit.

SUMMARY: Notice is hereby given that Molly Lutcavage, Department of Zoology, 177 A Spaulding Hall, University of New Hampshire, Durham, NH 03824-2617, has been issued a permit to take leatherback (Dermochelys coriacea) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9200; fax (978)281-9371.

FOR FURTHER INFORMATION CONTACT: Patrick Opay or Kate Swails, (301)713-2289.

SUPPLEMENTARY INFORMATION: On January 6, 2006, notice was published in the Federal Register (71 FR 916) that a request for a scientific research permit to take leatherback sea turtles had been submitted by the above-named individual. The requested permit has been issued under the authority of the Endangered Species Act of 1973, as amended (ESA; 16 U.S.C. 1531 et seq.) and the regulations governing the taking, importing, and exporting of endangered and threatened species (50 CFR parts 222-226).

The primary purpose of the proposed research is to investigate leatherback sea turtle regional behavior and movements in near-shore waters off the northeastern United States and to identify their dispersal in relation to oceanographic conditions and fishing activities. The research will also help establish baseline health assessments, genetic identities, sex ratios, and stable isotope composition of leatherback sea turtle tissues and prey. Researchers will conduct research on up to 12 leatherback sea turtles annually. Researchers will use animals that have been disentangled from fishing gear by the stranding network or they will capture the animals using a breakaway hoopnet. Turtles will be measured, weighed, photographed and video taped, flipper and passive integrated transponder (PIT) tagged, blood sampled, cloacal swabbed, nasal swabbed, skin sampled, tagged with electronic instruments (e.g., satellite transmitters), and released. The research permit is issued for 5 years.

Issuance of this permit, as required by the ESA, was based on a finding that such permit (1) was applied for in good faith, (2) will not operate to the disadvantage of any endangered or threatened species, and (3) is consistent with the purposes and policies set forth in section 2 of the ESA.

Dated: June 21, 2006.
P. Michael Payne,
Chief, Permits, Conservation and Education Division, Office of Protected Resources, National Marine Fisheries Service.

[FR Doc. E6-10113 Filed 6-26-06; 8:45 am]

BILLING CODE 3510-22-S